SMALL BUSINESS ADMINISTRATION

[Declaration of Disaster #3333]

State of Mississippi

As a result of the President's major disaster declaration on April 17, 2001, I find that Attala, Holmes, and Lee Counties in the State of Mississippi constitute a disaster area due to damages caused by Flooding and Severe Storms occurring between April 3-5, 2001. Applications for loans for physical damage as a result of this disaster may be filed until the close of business on June 17, 2001 and for economic injury until the close of business on January 17, 2002 at the address listed below or other locally announced locations: U.S. Small Business Administration, Disaster Area 2 Office, One Baltimore Place, Suite 300, Atlanta, GA 30308.

In addition, applications for economic injury loans from small businesses located in the following contiguous counties in Mississippi may be filed until the specified date at the above location: Carroll, Chickasaw, Choctaw, Humphreys, Itawamba, Leake, Leflore, Madison, Monroe, Montgomery, Neshoba, Pontotoc, Prentiss, Union, Winston and Yazoo.

The interest rates are:

For Physical Damage: | Percent
Homeowners with credit available elsewhere | 6.625
Homeowners without credit available elsewhere | 3.312
Businesses with credit available elsewhere | 8.000
Businesses and non-profit organizations without credit available elsewhere | 4.000
Others (including non-profit organizations) with credit available elsewhere | 7.125
For Economic Injury:
Businesses and small agricultural cooperatives without credit available elsewhere | 4.000

The number assigned to this disaster for physical damage is 333306. For economic injury the number is 9L4900.

(Catalog of Federal Domestic Assistance Program Nos. 59002 and 59008).
Dated: April 18, 2001.
Herbert L. Mitchell,
Associate Administrator for Disaster Assistance.

[FR Doc. 01-10146 Filed 4-23-01; 8:45 am]

BILLING CODE 8025-01-U